ENVIRONMENTAL PROTECTION AGENCY

[EPA-HQ-OW-2014-0593; FRL-9918-71-OW]

Proposed Information Collection Request; Comment Request; 2015 Drinking Water Infrastructure Needs Survey and Assessment (Reinstatement)

AGENCY: Environmental Protection Agency.

ACTION: Notice.

SUMMARY: The U.S. Environmental Protection Agency (EPA) is planning to submit an information collection request (ICR), “2015 Drinking Water Infrastructure Needs Survey and Assessment (Reinstatement)” (EPA ICR No. 2234.04, OMB Control No. 2014-0274), to the Office of Management and Budget (OMB) for review and approval in accordance with the Paperwork Reduction Act (PRA) (44 U.S.C. 3501 et seq.). Before doing so, the EPA is soliciting comments on specific aspects of the proposed information collection as described in this request. This is a reinstatement of a previously approved information collection activity that was discontinued on February 28, 2014. An Agency may not conduct or sponsor and a person is not required to respond to a collection of information unless it displays a currently valid OMB control number.

DATES: Comments must be submitted on or before January 2, 2015.

ADDRESSES: Submit your comments, referencing Docket ID No. EPA-HQ-OW-2014-0593, online using www.regulations.gov (our preferred method), by email to ow-docket@epa.gov or by mail to: EPA Docket Center, Environmental Protection Agency, Mail Code 28221T, 1200 Pennsylvania Ave. NW., Washington, DC 20460.

The EPA's policy is that all comments received will be included in the public docket without change including any personal information provided, unless the comment includes profanity, threats, information claimed to be Confidential Business Information (CBI) or other information whose disclosure is restricted by statute.

FOR FURTHER INFORMATION CONTACT: Robert Barles, Drinking Water Protection Division (Mail Code 4606M), Office of Ground Water and Drinking Water, Environmental Protection Agency, 1200 Pennsylvania Avenue NW., Washington, DC 20460; telephone number: 202-564-3814; fax number: 202-564-3754; email address: barles.robert@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about the EPA's public docket, visit http://www.epa.gov/dockets.

Pursuant to section 3506(c)(2)(A) of the PRA, the EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. The EPA will consider the comments received and amend the ICR as appropriate. The final ICR package will then be submitted to OMB for review and approval. At that time, the EPA will issue another Federal Register notice to announce the submission of the ICR to OMB and the opportunity to submit additional comments to OMB.

Abstract: The purpose of this information collection is to identify the infrastructure needs of public water systems for the 20-year period from January 2015 through December 2034. The EPA's Office of Ground Water and Drinking Water will collect these data to comply with Sections 1452(h) and 1452(i)(4) of the Safe Drinking Water Act (42 U.S.C. 300j-12). The

EPA will use a questionnaire to collect capital investment need information from selected community water systems serving more than 3,300 persons. Participation in the survey is voluntary. The data from the questionnaires will provide the EPA with new information from the field to assist in the 2015 update to the Agency's assessment of the nationwide infrastructure needs of public water systems. Also, as mandated by section 1452(a)(1)(D)(ii) of the Safe Drinking Water Act, the EPA uses the results of the latest survey to allocate Drinking Water State Revolving Fund (DWSRF) monies to the States. Under the allotment formula, each State receives a grant of the annual DWSRF appropriation in proportion to its share of the total national need, with the proviso that each State receives at least one percent of the total funds available.

Form Numbers: 6100-02.

Respondents/affected entities: The respondents for the 2015 Drinking Water Infrastructure Needs Survey and Assessment are community water systems and State agencies.

Respondent's obligation to respond: Voluntary.

Estimated number of respondents: 2,915 (total).

Frequency of response: One time.

Total estimated burden: 12,398 hours (average per year over three years). Burden is defined at 5 CFR 1320.03(b).

Total estimated cost: $578,001 (average per year over three years), includes $0 annualized capital or operation & maintenance costs.

Changes in Estimates: This ICR does not modify an existing ICR. However, it should be noted that an ICR was prepared for the previous survey effort done in 2011, which is outside of the three-year window for modifying an existing ICR for a new effort. For purposes of this reinstatement, the EPA has provided a comparison of burden of the proposed, new effort to the estimates of the previous effort's ICR.

The estimated total public reporting burden over the entire four-year length of the 2011 DWINSA was 48,995 hours; the total burden for the 2015 Survey is estimated to be 37,194 hours. The 2011 DWINS average burden per respondent was estimated to be 15.24 hours; whereas for 2015, the average is estimated to be 12.76 hours per respondent. The reduction in burden for the 2015 DWINSA is attributed to:

1. The use of a modified data collection approach, whereby a majority of systems from the 2011 DWINSA are being resurveyed and a smaller pool of systems will be randomly surveyed.

2. Existing data from the 2011 DWINSA for Tribal systems will be extrapolated to 2015 needs using construction cost inflation calculations and taking into account any shifts in the number and size of these systems.

These changes are further discussed in the Supporting Statement of the Information Collection Request available in EPA's docket for comment.

Dated: October 23, 2014.
Peter Grevatt,
Director, Office of Ground Water and Drinking Water.

[FR Doc. 2014-25944 Filed 10-31-14; 8:45 am]

BILLING CODE 6560-50-P